DEPARTMENT OF HEALTH AND HUMAN SERVICES

Centers for Disease Control and Prevention

[60Day-06-05CH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

An assessment of the determinants of HIV risk factors for African-American and Hispanic women in the southeastern United States—New—The National Center for HIV/AIDS, STD and TB Prevention (NCHSTP), Centers for Disease Control and Prevention (CDC).

Background and Brief Description

CDC is requesting OMB approval to administer a questionnaire and rapid oral test for HIV in heterosexual African American and Hispanic women at three sites in the southeastern United States. This proposed data collection will occur over 3 years.

This study is designed to assess risk factors for HIV infection in these women and addresses goals of CDC's “HIV Prevention Strategic Plan Through 2005”. CDC plans to meet specific goals by (1) decreasing the number of women at high risk of acquiring or transmitting HIV infection; (2) increasing the proportion of HIV-infected women who know they are infected; (3) increasing the number of HIV-infected women who are linked to appropriate prevention, care, and treatment services; and (4) strengthening the capacity nationwide to monitor the HIV epidemic. In addition, project data will provide important epidemiologic information useful for the development and targeting of future HIV prevention activities.

To identify recruitment venues, 250 African American and 125 Hispanic women (n = 375) will be recruited to take part in an anonymous one-time 3-minute intercept interview. (Data on the table below are shown annualized over the 3 year period for this project.) About 2025 women, recruited directly from the selected venues (e.g. health clinics, beauty salons, laundromats, etc.) and by word of mouth using a respondent-driven sampling (RDS) approach, will be asked to complete a 10-minute eligibility screening interview. We estimate that 80% of screened women will be eligible for our study. Among the estimated 1620 eligible women about 270 women are anticipated to decline participation in the study. To get a better understanding of the reasons for declining participation, those 270 women will be asked to complete a 10-minute questionnaire. The remaining 1350 eligible participants (850 African American and 500 Hispanic) that are at risk for HIV infection will be enrolled. They will respond to a one-time, 45-minute computerized questionnaire capturing information on demographic, psychological, behavioral, sociocultural, and environmental/contextual dimensions relevant for understanding risk for contracting HIV infection. They will also receive rapid oral HIV testing and counseling. The HIV counseling and testing will take an additional 45 minutes to complete. Each woman will receive 10-minute RDS training on how they can tell other women in their social networks about the study. A sub-sample of 40 African American and 20 Hispanic women (n = 60) will also take part in separate qualitative interviews. The one-hour qualitative interview will be scheduled for a different day that is convenient for the women.

The total response burden for the three-year period is estimated to be 2711.25 hours (904 annualized burden hours). There is no cost to the respondents other than their time.

Estimated Annualized Burden Hours
Activity with women volunteers | Number of respondents | Number of responses per respondent | Average burden per response (hours) | Hours
Venue intercept interview | 125 | 1 | 3/60 | 6.25
Eligibility screening interview | 675 | 1 | 10/60 | 112.5
Refusal questionnaire | 90 | 1 | 10/60 | 15
ACASI survey interview | 450 | 1 | 45/60 | 337.5
HIV Testing & Counseling | 450 | 1 | 45/60 | 337.5
RDS Training | 450 | 1 | 10/60 | 75
Qualitative interview | 20 | 1 | 1 | 20
Total |  |  |  | 903.75

Dated: November 6, 2006.
Joan F. Karr,
Acting Reports Clearance Officer, Centers for Disease Control and Prevention.

[FR Doc. E6-19146 Filed 11-13-06; 8:45 am]

BILLING CODE 4163-18-P